DEPARTMENT OF ENERGY

Federal Energy Regulatory Commission

[Docket No. ER00-1053-011, et al.]

Maine Public Service Company, et al.; Electric Rate and Corporate Filings

June 18, 2004.

The following filings have been made with the Commission. The filings are listed in ascending order within each docket classification.

1. Maine Public Service Company

[Docket No. ER00-1053-011]

Take notice that on June 15, 2004, Maine Public Service Company (MPS) pursuant to section 2.3 of the Settlement Agreement filed on February 11, 2004, in Docket No. ER00-1053-010, and accepted by the Commission on April 1, 2004, submitted an informational filing setting forth the changed open access transmission tariff charges effective June 1, 2004, together with back-up materials.

MPS states that copies of this filing were served on the parties to the Settlement Agreement in Docket No. ER00-1053-000, the Commission Trial Staff, the Maine Public Utilities Commission, the Maine Public Advocate, and current MPS open access transmission tariff customers.

Comment Date: July 6, 2004.

2. Union Electric Company

[Docket No. ER04-931-000]

Take notice that on June 16, Union Electric Company, d/b/a AmerenUE, (Union) tendered for filing an unexecuted Contract between United States of America, represented by the Secretary of Energy, acting by and through the Administrator, Southwestern Power Administration and Union Electric Company, d/b/a AmerenUE (the parties). Union states that the purpose of the Contract is to permit the parties to maintain the existing interconnection between their systems for the transfer of power between their respective systems.

Union states that copies of the Application have been served on the Missouri Public Service Commission.

Comment Date: July 7, 2004.

3. Michigan Electric Transmission Company, LLC

[Docket Nos. ER04-933-000 and ER01-2375-007]

Take notice that on June 15, 2004, Michigan Electric Transmission Company, LLC (METC) submitted executed and revised Generator Interconnection and Operating Agreement (GIOA) with Covert Generating Company, LLC (Covert) intended to resolve the issues still pending in Docket No. ER01-2375. METC requests an effective date of July 1, 2004.

METC states that copies of this filing have been served upon Covert, the Midwest ISO and all parties on the official service list in Docket No. ER01-2375.

Comment Date: July 6, 2004.

4. ISO New England Inc.

[Docket No. ES04-39-000]

Take notice that on June 15, 2004, ISO New England Inc. tendered for filing an application under section 204 of the Federal Power Act, 16 U.S.C. 824c, for an order authorizing the issuance of promissory notes in the total amount of $39,000,000.

ISO New England Inc., states that copies of said filing have been served electronically upon the New England Power Pool Participants.

Comment Date: July 19, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1415 Filed 6-25-04; 8:45 am]

BILLING CODE 6717-01-P